DEPARTMENT OF THE INTERIOR

National Park Service

[NPS-WASO-NAGPRA-NPS0030489; PPWOCRADN0-PCU00RP14.R50000]

Notice of Inventory Completion: Tennessee Valley Authority, Knoxville, TN

AGENCY: National Park Service, Interior.

ACTION: Notice.

SUMMARY: The Tennessee Valley Authority (TVA) has completed an inventory of human remains and associated funerary objects in consultation with the appropriate Federally-recognized Indian Tribes, and has determined that there is no cultural affiliation between the human remains and funerary objects and any present-day Federally-recognized Indian Tribe. Representatives of any Federally-recognized Indian Tribe not identified in this notice that wish to request transfer of control of these human remains and associated funerary objects should submit a written request to the TVA. If no additional requestors come forward, transfer of control of the human remains and associated funerary objects to the Federally-recognized Indian Tribe stated in this notice may proceed.

DATES: Representatives of any Federally recognized Indian Tribe not identified in this notice that wish to request transfer of control of these human remains and associated funerary objects should submit a written request with information in support of the request to the TVA at the address in this notice by August 31, 2020.

ADDRESSES: Dr. Thomas O. Maher, Tennessee Valley Authority, 400 West Summit Hill Drive, WT11C, Knoxville, TN 37902-1401, telephone (865) 632-7458, email tomaher@tva.gov.

SUPPLEMENTARY INFORMATION: Notice is here given in accordance with the Native American Graves Protection and Repatriation Act (NAGPRA), 25 U.S.C. 3003, of the completion of an inventory of human remains and associated funerary objects under the control of the Tennessee Valley Authority, Knoxville, TN. The human remains and funerary objects were removed from archeological sites 1LU495 and 1LU92 in Lauderdale County, AL, and 40HN4/40HR54 in Hardin County, TN.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by TVA professional staff in consultation with representatives of the Absentee-Shawnee Tribe of Indians of Oklahoma; Alabama-Coushatta Tribe of Texas (previously listed as Alabama-Coushatta Tribes of Texas); Cherokee Nation; Coushatta Tribe of Louisiana; Eastern Band of Cherokee Indians; Mississippi Band of Choctaw Indians; Poarch Band of Creeks (previously listed as Poarch Band of Creek Indians of Alabama); The Chickasaw Nation; The Choctaw Nation of Oklahoma; The Muscogee (Creek) Nation; The Seminole Nation of Oklahoma; and the United Keetoowah Band of Cherokee Indians in Oklahoma (hereafter referred to as “The Consulted Tribes”).

History and Description of the Remains

From June 29 to July 1, 1988, human remains representing, at minimum, 33 individuals were removed from site 1LU495 by the University of Alabama archeological field school. TVA acquired this land on February 18, 1937, for the Pickwick Reservoir project. The site is a cave adjacent to Coffee Slough in the vicinity of Seven Mile Island. The University of Alabama field school excavated two small units, but the chronological placement of the site is unknown. Human remains from this site were previously listed in a Notice of Inventory Completion published in the Federal Register (82 FR 39904-39906, August 22, 2017) and were transferred to The Chickasaw Nation. Additional human remains were found during a recent improvement in the curation of the TVA archeological collections at the Alabama Museum of Natural History (AMNH). These human remains are too fragmentary to determine the sex of the individuals. They belong to 27 adults 18 years or older, and six sub-adults ranging in age from 1-14 years. No known individuals were identified.

From October 1937 to December 1938, human remains and funerary objects were excavated from site 1LU92 by the AMNH. Excavation commenced after TVA purchased this land on November 27, 1935, for the Pickwick Reservoir project. Site 1LU92 was composed of both a village and a cemetery. Excavations focused on the cemetery. There was no clear stratigraphy at the site. The excavators believed the village midden predates the cemetery. The later occupation is attributed to the Kogers Island phase of the Mississippian period (A.D. 1200-1500). Human remains and associated funerary objects from this site were previously listed in Notices of Inventory Completion published in the Federal Register (81 FR 60378, September 1, 2016 and 84 FR 38051, August 5, 2019), and were transferred to The Chickasaw Nation. Additional funerary objects were found during a recent improvement in the curation of the TVA archeological collection at the AMNH. The five funerary objects associated with human remains include four wood ear spools with copper staining and one bone pin with copper staining.

From January 16 to April 26, 1937, human remains and associated funerary objects were excavated from the Fisher Mound, 40HN4/40HR54, by the AMNH. TVA acquired this site on July 25, 1936, as part of the Pickwick Reservoir project. The site was approximately 400 feet north of the border with Alabama on the right descending side of the Tennessee River. The site's most noticeable surface feature was a conical mound 70 feet in diameter and 11 feet high. Using Works Progress Administration labor and funds, the AMNH excavated the mound and three adjacent areas. There are no radiocarbon dates from this site, and very little pottery was recovered in the village area. The mound is generally identified as a mortuary structure from the Copena phase (A.D. 100-500). Cultural items from this site were previously listed in a Notice of Inventory Completion published in the Federal Register (83 FR 65738, December 21, 2018), and were transferred to The Chickasaw Nation. Additional funerary objects were found during a recent improvement in the curation of the TVA archeological collection at the AMNH. The seven funerary objects include five pieces of daub or clay used to contain human remains and two galena nodules.

Determinations Made by the Tennessee Valley Authority

Officials of the Tennessee Valley Authority have determined that:

• Pursuant to 25 U.S.C. 3001(9), the human remains described in this notice are Native American based on their presence in a prehistoric archeological site and osteological analysis.

• Pursuant to 25 U.S.C. 3001(9), the human remains described in this notice represent the physical remains of 33 individuals of Native American ancestry.

• Pursuant to 25 U.S.C. 3001(3)(A), the 12 objects described in this notice are reasonably believed to have been placed with or near individual human remains at the time of death or later as part of the death rite or ceremony.

• Pursuant to 25 U.S.C. 3001(2), a relationship of shared group identity cannot be reasonably traced between the cultural items and any present-day Indian Tribe.

• According to final judgements of the Indian Claims Commission or the Court of Federal Claims, the land from which the cultural items were removed is the aboriginal land of the Cherokee Nation; Eastern Band of Cherokee Indians; and the United Keetoowah Band of Cherokee Indians in Oklahoma.

• The Treaty of September 20, 1816, indicates that the land from which the cultural items were removed is the aboriginal land of The Chickasaw Nation.

• Pursuant to 43 CFR 10.11(c)(1)(ii), the disposition of the human remains may be to the Cherokee Nation; Eastern Band of Cherokee Indians; The Chickasaw Nation; and the United Keetoowah Band of Cherokee Indians in Oklahoma. The Cherokee Nation; Eastern Band of Cherokee Indians; and the United Keetoowah Band of Cherokee Indians in Oklahoma have declined to accept transfer of control of the human remains. Accordingly, TVA has decided to transfer control of the unidentifiable human remains to The Chickasaw Nation.

• Pursuant to 43 CFR 10.11(c)(4), TVA has decided to transfer control of the funerary objects associated with the culturally unidentifiable human remains to The Chickasaw Nation.

Additional Requestors and Disposition

Representatives of any Federally recognized Indian Tribe not identified in this notice that wish to request transfer of control of these human remains and associated funerary objects should submit a written request with information in support of the request to Dr. Thomas O. Maher, Tennessee Valley Authority, 400 West Summit Hill Drive, WT11C, Knoxville, TN 37902-1401, telephone (865) 632-7458, email tomaher@tva.gov, by August 31, 2020. After that date, if no additional requestors have come forward, transfer of control of the human remains and associated funerary objects to The Chickasaw Nation may proceed.

The Tennessee Valley Authority is responsible for notifying The Consulted Tribes that this notice has been published.

Dated: June 18, 2020.
Melanie O'Brien,
Manager, National NAGPRA Program.

[FR Doc. 2020-16498 Filed 7-29-20; 8:45 am]

BILLING CODE 4312-52-P